DEPARTMENT OF ENERGY

[OE Docket No. PP-400]

Notice of Availability (NOA) for the Draft Environmental Impact Statement (EIS) and Announcement of Public Hearings for the Proposed New England Clean Power Link (NECPL) Transmission Line

AGENCY: U.S. Department of Energy.

ACTION: Notice of availability and public hearings.

SUMMARY: The U.S. Department of Energy (DOE) announces the availability of the “Draft Environmental Impact Statement for the New England Clean Power Link Transmission Line Project” (DOE/EIS-0503) for public review and comment. DOE is also announcing two public hearings to receive comments on the Draft EIS. The Draft EIS evaluates the environmental impacts of DOE's proposed Federal action of issuing a Presidential permit to the Applicant: Champlain VT, LLC, doing business as TDI New England (“TDI-NE”), to construct, operate, maintain, and connect a new electric transmission line across the U.S./Canada border in northern Vermont.

DATES: DOE invites interested Members of Congress, state and local governments, other Federal agencies, American Indian tribal governments, organizations, and members of the public to provide comments on the Draft EIS during the 60-day public comment period. The public comment period starts on June 12, 2015, with the publication in the Federal Register by the U.S. Environmental Protection Agency of its Notice of Availability of the Draft EIS, and will continue until August 11, 2015. Written and oral comments will be given equal weight and all comments received or postmarked by that date will be considered by DOE in preparing the Final EIS. Comments received or postmarked after that date will be considered to the extent practicable.

Locations, dates, and start time for the public hearings are listed in the SUPPLEMENTARY INFORMATION section of this NOA.

ADDRESSES: Requests to provide oral comments at the public hearings may be made at the time of the hearing(s).

Written comments on the Draft EIS may be provided on the NECPL EIS Web site at http://necplinkeis.com/ (preferred) or addressed to Mr. Brian Mills, Office of Electricity Delivery and Energy Reliability (OE-20), U.S. Department of Energy, 1000 Independence Avenue SW., Washington, DC 20585; by electronic mail to Brian.Mills@hq.doe.gov; or by facsimile to 202-318-7761.

FOR FURTHER INFORMATION CONTACT: Mr. Brian Mills at the addresses above, or at 202-586-8267.

SUPPLEMENTARY INFORMATION: The public hearings will consist of the formal taking of comments with transcription by a court stenographer. The hearings will provide interested parties the opportunity to make comments for consideration in the preparation of the Final EIS.

The locations, dates, and starting times of the public hearings are listed in the table below:

Location | Date and time | Address
Sheraton, Burlington, Vermont | July 15, 2015, 6:00 p.m | 870 Williston Road, South Burlington, Vermont 05403.
Holiday Inn, Rutland, Vermont | July 16, 2015, 6:00 p.m | 476 Holiday Drive, Rutland, Vermont 05701.

Availability of the Draft EIS

Copies of the Draft EIS have been distributed to appropriate members of Congress, state and local government officials, American Indian tribal governments, and other Federal agencies, groups, and interested parties. Printed copies of the document may be obtained by contacting Mr. Mills at the above address. Copies of the Draft EIS and supporting documents are also available for inspection at the following locations:

• South Hero Free Library—76 South Street, South Hero, Vermont

• Fletcher Free Library—235 College Street, Burlington, Vermont

• Winooski Public Library—32 Malletts Bay Avenue, Winooski, Vermont

• Middlebury Library—75 Main Street, Middlebury, Vermont

• Rutland Free Library—10 Court Street, Rutland, Vermont

• West Rutland Library—595 Main Street, West Rutland, Vermont

• Shrewsbury Library—98 Town Hill Road, Cuttingsville, Vermont

• Gilbert Hart Library—14 S. Main Street, Wallingford, Vermont

• Fair Haven Public Library—107 North Main Street, Fair Haven, Vermont

• Mount Holly Town Library—26 Maple Hill Road, Belmont, Vermont

• Bailey Memorial Library—111 Moulton Avenue, North Clarendon, Vermont

The Draft EIS is also available on the EIS Web site at http://necplinkeis.com/ and on the DOE NEPA Web site at http://nepa.energy.gov/.

Issued in Washington, DC, on June 4, 2015.
Patricia A. Hoffman,
Assistant Secretary, Office of Electricity Delivery and Energy Reliability.

[FR Doc. 2015-14335 Filed 6-11-15; 8:45 am]

BILLING CODE 6450-01-P